DEPARTMENT OF TRANSPORTATION

Research and Special Programs Administration (RSPA)

[Docket No. RSPA-98-4470]

Pipeline Safety: Meetings of the Hazardous Liquid Pipeline Safety Advisory Committee

AGENCY: Office of Pipeline Safety, Research and Special Programs Administration, DOT.

ACTION: Notice of Hazardous Liquid Advisory Committee Telephone Conference Meetings.

SUMMARY: Pursuant to section 10(a)(2) of the Federal Advisory Committee Act (Pub. L. 92-463, 5 U.S.C. App. 1) the Office of Pipeline Safety (OPS) is giving notice of a meeting of the Technical Hazardous Liquid Pipeline Safety Standards Committee (THLPSSC) to consider two Notices of Proposed Rulemaking (NPRM), “Areas Unusually Sensitive to Environmental Damage” (64 FR 73464) and “Pipeline Integrity Management in High Consequence Areas for Hazardous Liquid Pipelines” (65 FR 21695). In addition, OPS is providing notice of an earlier telephone conference call to provide the members an oral briefing on: (1) A summary of issues raised in comments to the docket on both NPRMs; and, (2) the results of the technical review of the proposed definition of areas unusually sensitive to environmental damage.

DATES: OPS will hold the conference call briefing on Thursday, August 24, 2000, at 11:30 a.m. EST. The meeting of the THLPSSC will be conducted by conference call on Monday, September 11, 2000, at 11:30 a.m.

ADDRESSES: Members of the public may attend the meetings at the Department of Transportation, Nassif Building, 400 Seventh Street, SW., Washington, DC 20590. The August 24 meeting is in room 8442 and the September 11 meeting is in room 6200.

An opportunity will be provided for the public to make short statements on the topics under discussion. Anyone wishing to make an oral statement should notify Juan Carlos Martinez, (202) 366-1933, not later than August 16, 2000, on the topic of the statement and the time requested for presentation. The presiding officer at each meeting may deny any request to present an oral statement and may limit the time of any presentation.

Information on Services for Individuals With Disabilities

For information on facilities or services for individuals with disabilities or to request special assistance during the telephone conference calls, contact Juan Carlos Martinez at (202) 366-1933.

FOR FURTHER INFORMATION CONTACT: Cheryl Whetsel, OPS, (202) 366-4431 or Richard Huriaux, OPS, (202) 366-4565, regarding the subject matter of this notice.

SUPPLEMENTARY INFORMATION: The THLPSSC is a statutorily mandated advisory committee that advises OPS on proposed safety standards and other safety policies for hazardous liquid pipelines. The committee consists of 15 members representing government, industry, and the public. The committees meet twice a year, usually in May and November. However, because the THLPSSC requested a delay in its formal review of two proposed rules at the May 2000 meeting and OPS intends to complete action on both rulemakings this year, a meeting is being held in September.

The biannual meeting generally held in November for both the THLPSSC and the Technical Pipeline Safety Standards Committee will be postponed until February 2001.

Authority: 49 U.S.C. 60102, 60115.

Issued in Washington, DC on July 27, 2000.
Stacey L. Gerard,
Acting Associate Administrator for Pipeline Safety.

[FR Doc. 00-19607 Filed 8-2-00; 8:45 am]

BILLING CODE 4910-60-P